SMALL BUSINESS ADMINISTRATION

[Disaster Declaration #12242 and #12243]

Kentucky Disaster Number KY-00035

AGENCY: U.S. Small Business Administration.

ACTION: Amendment 2.

SUMMARY: This is an amendment of the Presidential declaration of a major disaster for the State of Kentucky (FEMA-1925-DR), dated 07/23/2010.

Incident: Severe Storms, Flooding, and Mudslides.

Incident Period: 07/17/2010 through 07/30/2010.

Effective Date: 08/05/2010.

Physical Loan Application Deadline Date: 09/21/2010.

EIDL Loan Application Deadline Date: 04/25/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Kentucky, dated 07/23/2010 is hereby amended to include the following areas as adversely affected by the disaster:

Primary Counties: (Physical Damage and Economic Injury Loans): Carter, Lewis.

Contiguous Counties: (Economic Injury Loans Only):

Kentucky: Boyd, Elliott, Fleming, Greenup, Lawrence, Mason, Rowan.

Ohio: Adams, Scioto.

All other information in the original declaration remains unchanged.

(Catalog of Federal Domestic Assistance Numbers 59002 and 59008)

Roger B. Garland,
Acting Associate Administrator for Disaster Assistance.

[FR Doc. 2010-19963 Filed 8-12-10; 8:45 am]

BILLING CODE 8025-01-P